DEPARTMENT OF AGRICULTURE

Grain Inspection, Packers and Stockyards Administration

Advisory Committee Meeting

Pursuant to the provisions of section 10(a)(2) of the Federal Advisory Committee Act (Pub. L. 92-463), notice is hereby given of the following committee meeting:

Name: Grain Inspection Advisory Committee.

Date: May 15-16, 2002.

Place: Radisson Hotel Memphis Downtown, 185 Union, Memphis, Tennessee 38103.

Time: 7:30 a.m.-5 p.m. on May 15, and 7:30 a.m.-12 (Noon) on May 16, 2002.

Purpose: To provide advice to the Administrator of the Grain Inspection, Packers and Stockyards Administration (GIPSA) with respect to the implementation of the U.S. Grain Standards Act (7 U.S.C. 71 et seq.).

The agenda will include a review and discussion of GIPSA's financial status and of the December 2001 Advisory Committee Resolutions. GIPSA will provide updates on the financial performance of its field offices; on various grain inspection topics such as wheat dockage, factor determinations, electronic certification, and soybean test weight; on working toward international uniformity in definition and in measurement technology; on promoting the accuracy of biotechnology testing, and on evaluating the feasibility of using contractors to provide inspection services under the Agricultural Marketing Act. Discussions and updates also will be provided on the recommendations made in the quality assurance/quality control and oversight study; and on any other related issues concerning the delivery of grain inspection and weighing services to American agriculture.

Public participation will be limited to written statements, unless permission is received from the Committee chairman to orally address the Committee. Persons, other than members, who wish to address the Committee or who wish to submit written statements before or after the meeting should contact the Donna Reifschneider, Administrator, GIPSA, U.S. Department of Agriculture, 1400 Independence Avenue, SW., STOP 3601, Washington, DC 20250-3601, telephone (202) 720-0219 or FAX (202) 205-9237.

The meeting will be open to the public. Persons with disabilities who require alternative means of communication of program information or related accommodations should contact Joanne Peterson, telephone (202) 720-8087 or FAX (202) 690-2755.

Dated: April 29, 2002.
Donna Reifschneider,
Administrator, Grain Inspection, Packers and Stockyards Administration.

[FR Doc. 02-11543 Filed 5-8-02; 8:45 am]

BILLING CODE 3410-EN-U